DEPARTMENT OF THE INTERIOR

National Park Service

General Management Plan Revision, Final Environmental Impact Statement, Petrified Forest National Park, AZ

AGENCY: National Park Service, Department of the Interior.

ACTION: Notice of availability of the Record of Decision on the Final Environmental Impact Statement for the General Management Plan Revision, Petrified Forest National Park.

SUMMARY: Pursuant to section 102(2)(C) of the National Environmental Policy Act of 1969, 83 Stat. 852, 853, codified as amended at 42 U.S.C. § 4332(2)(C), the National Park Service announces the availability of the Record of Decision for the General Management Plan Revision, Petrified Forest National Park, Arizona. On October 15, 2004, the Director, Intermountain Region, approved the Record of Decision for the project. As soon as practicable, the National Park Service will begin to implement the preferred alternative contained in the FEIS issued on August 25, 2005. The following course of action will occur under the selected alternative: Reusing and maintaining the historic integrity of Painted Desert headquarters complex will be a priority. Visitor services at Painted Desert Inn (rehabilitated) will be expanded. Facility improvements will be made at Rainbow Forest. Park lands will be managed similar to now, but with greater protection for natural and cultural resources from increased monitoring and adapting to new information. Some trails and turnouts will be added, and visitor hours will be expanded in the north. Most park collections will be housed in a new facility. This course of action, along with a no action alternative and two other action alternatives were analyzed in the Draft and Final Environmental Impact Statements. The full range of foreseeable environmental consequences was assessed, and appropriate mitigating measures were identified.

The Record of Decision includes a statement of the decision made, synopsis of other alternatives considered, the basis for the decision, a description of the environmentally preferable alternative, a finding on impairment of park resources and values, a listing of measures to minimize environmental harm, an overview of public involvement in the decision-making process, and a conclusion.

FOR FURTHER INFORMATION CONTACT: Lee Baiza, Superintendent, Petrified Forest National Park, P.O. Box 2217, Petrified Forest National Park, Arizona 86028, (928) 524-6228, lee_baiza@nps.gov.

SUPPLEMENTARY INFORMATION: Copies of the Record of Decision are available from the Superintendent listed above or on the Internet at: http://planning.nps.gov/plans.cfm.

Dated: October 15, 2004.
Stephen P. Martin,
Director, Intermountain Region, National Park Service.

[FR Doc. 04-27608 Filed 12-16-04; 8:45 am]

BILLING CODE 4312-52-P